FEDERAL TRADE COMMISSION

Agency Information Collection Activities; Submission for OMB Review; Comment Request

AGENCY: Federal Trade Commission.

ACTION: Notice.

SUMMARY: The information collection requirements described below are being submitted to the Office of Management and Budget (“OMB”) for review, as required by the Paperwork Reduction Act (“PRA”). The Federal Trade Commission (“FTC” or “Commission”) is seeking public comments on its proposal to conduct a survey of consumers to advance its understanding of the incidence of consumer fraud and to allow the FTC to better serve people who experience fraud. The survey is a follow-up to the FTC's Consumer Fraud Survey conducted in 2003 and released in August 2004.

DATES: Comments on the proposed information requests must be received on or before September 19, 2005.

ADDRESSES: Interested parties are invited to submit written comments. Comments should refer to “Consumer Fraud Survey: FTC File No. P014412” to facilitate the organization of comments. A comment filed in paper form should include this reference both in the text and on the envelope and should be mailed or delivered, with two complete copies, to the following address: Federal Trade Commission/Office of the Secretary, Room H-135 (Annex E), 600 Pennsylvania Avenue, NW., Washington, DC 20580. Because paper mail in the Washington area and at the Commission is subject to delay, please consider submitting your comments in electronic form, as prescribed below. However, if the comment contains any material for which confidential treatment is requested, it must be filed in paper form, and the first page of the document must be clearly labeled “Confidential.” ¹ The FTC is requesting that any comment filed in paper form be sent by courier or overnight service, if possible. Alternatively, comments may be filed in electronic form (in ASCII format, WordPerfect, or Microsoft Word) as part of or as an attachment to e-mail messages directed to the following e-mail box: consumersurvey@ftc.gov.

¹ Commission Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments should also be submitted to: Office of Management and Budget, Attention: Desk Officer for the Federal Trade Commission. Comments should be submitted via facsimile to (202) 395-6974 because U.S. Postal Mail is subject to lengthy delays due to heightened security precautions.

The FTC Act and other laws the Commission administers permit the collection of public comments to consider and use in this proceeding as appropriate. All timely and responsive public comments will be considered by the Commission and will be available to the public on the FTC Web site, to the extent practicable, at http://www.ftc.gov. As a matter of discretion, the FTC makes every effort to remove home contact information for individuals from the public comments it receives before placing those comments on the FTC Web site. More information, including routine uses permitted by the Privacy Act, may be found in the FTC's privacy policy at http://www.ftc.gov/ftc/privacy.htm.

FOR FURTHER INFORMATION CONTACT: Requests for additional information should be addressed to Nathaniel C. Wood, Assistant Director, Office of Consumer and Business Education, Bureau of Consumer Protection, Federal Trade Commission, NJ-2267, 601 New Jersey Avenue, NW., Washington, DC 20580. Telephone: (202) 326-3407, e-mail: consumersurvey@ftc.gov.

SUPPLEMENTARY INFORMATION: In 2003, OMB approved the FTC's request to conduct a survey on consumer fraud and assigned OMB Control Number 3084-0125. The FTC completed the consumer research in June 2003 and issued its report, Consumer Fraud in the United States: An FTC Survey, in August 2004.² On April 22, 2005, the FTC published a Federal Register notice seeking comments from the public concerning the collection of information from consumers. See 70 FR 20194. No comments were received. Pursuant to the OMB regulations that implement the PRA (5 CFR part 1320), the FTC is providing this second opportunity for public comment while requesting that OMB reinstate the clearance for the survey. All comments should be filed as prescribed in the ADDRESSES section above, and must be received on or before September 19, 2005.

² The Report is available at http://www.ftc.gov/reports/consumerfraud/040805confraudrpt.pdf.

Description of the Collection of Information and Proposed Use

The FTC proposes to survey up to 3,700 consumers in order to gather specific information on the incidence of consumer fraud in the general population.³ All information will be collected on a voluntary basis, and the identities of the consumers will remain confidential. Subject to OMB approval for the survey, the FTC has contracted with a consumer research firm to identify consumers and conduct the survey. The results will assist the FTC in determining the incidence of consumer fraud in the general population and whether the type and frequency of consumer frauds is changing, and will inform the FTC about how to best combat consumer fraud. The survey will oversample demographic groups that the 2003 survey found to be at an elevated risk of becoming victims of consumer fraud, including Hispanics, African Americans, and Native Americans. The purpose of the oversampling is to acquire information on what additional factors affect victimization within those demographic groups, and which frauds they are most likely to experience.

³ As indicated in the April 22, 2005 Federal Register Notice, the FTC staff originally anticipated surveying up to 10,000 consumers. See 70 FR 20194. However, due to budget constraints and the need for oversampling, the FTC now intends only to survey up to 3,700 consumers.

The FTC intends to use oversampling and a larger sample size than the 2003 survey to allow for a more in-depth analysis of the resulting data. The additional data points will allow for statistically significant samples for particular types of fraud and particular demographic characteristics. The questions will be very similar to the 2003 survey so that the results from the 2003 survey can be used as a baseline for a time-series analysis.⁴ The FTC may choose to conduct another follow-up survey in approximately two years.

⁴ The survey instrument for the 2003 survey is attached as Appendix A to the Report.

Estimated Hours Burden

The FTC will pretest the survey on approximately 100 respondents to ensure that all questions are easily understood. This pretest will take approximately 15 minutes per person and 25 hours as a whole (100 respondents × 15 minutes each). Answering the consumer survey will require approximately 15 minutes per respondent and 925 hours as a whole (3,700 respondents × 15 minutes each). Thus, cumulative total burden hours for the first year of the clearance will approximate 950 hours.

Estimated Cost Burden

The cost per respondent should be negligible. Participation is voluntary and will not require start-up, capital, or labor expenditures by respondents.

Christian S. White,
Acting General Counsel.

[FR Doc. 05-16464 Filed 8-18-05; 8:45 am]

BILLING CODE 6750-01-P